DEPARTMENT OF COMMERCE

National Oceanic and Atmospheric Administration

RIN 0648-XB079

Caribbean Fishery Management Council; Public Meetings

AGENCY: National Marine Fisheries Service (NMFS), National Oceanic and Atmospheric Administration (NOAA), Department of Commerce.

ACTION: Notice of public meetings.

SUMMARY: The Caribbean Fishery Management Council (Council) and its Administrative Committee will hold meetings.

DATES: The meetings will be held on April 10-11, 2012. The Council will convene on Tuesday, April 10th, 2012 from 9 a.m. to 5 p.m., and the Administrative Committee will meet from 5:15 p.m. to 6 p.m. The Council will reconvene on Wednesday, April 11th, 2012, from 9 a.m. to 5 p.m.

ADDRESSES: The meetings will be held at the Buccaneer Hotel, 5007 Estate Shoys, Lot 7, Christiansted, St. Croix, U.S.V.I.

FOR FURTHER INFORMATION CONTACT: Caribbean Fishery Management Council, 268 Muñoz Rivera Avenue, Suite 1108, San Juan, Puerto Rico 00918-1920, telephone (787) 766-5926.

SUPPLEMENTARY INFORMATION: The Council will hold its 142nd regular Council Meeting to discuss the items contained in the following agenda:

April 10, 2012—9 a.m. to 5 p.m.

• Call to Order

• Adoption of Agenda

• Consideration of the 141st Council Meeting Verbatim Transcriptions

• Executive Director's Report

• Litigation over CFMC Amendment and the Associated Biological Opinion

• ACLs AMs Seagrasses

• White Paper FMPs by Areas

• Regulatory Amendment on Parrotfish Trips, Size Limits, and Trap Escape Vents—Options Paper

• SSC Meeting Report

• Fishing Industry Advisory Panel Report

Public Comment Period—(5) Five-minutes Presentations

April 10, 2012—5:15 p.m. to 6 p.m.

• Administrative Committee Meeting—SSC/AP Membership

April 11, 2012—9 a.m. to 5 p.m.

• Highly Migratory Species Presentation

• Trap Reduction Project Update

• Queen Conch—ESA Petition

• Outreach and Education Advisory Panel Report

• Catch Share Project Update

• Enforcement Reports

—Puerto Rico—DNER

—U.S. Virgin Islands—DPNR

—NOAA/NMFS

—U.S. Coast Guard

• Administrative Committee Recommendations

• Meetings Attended by Council Members and Staff

• Public Comment Period (5-Minutes Presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Simultaneous Interpretation (English/Spanish) will be provided. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone (787) 766-5926, at least 5 days prior to the meeting date.

Dated: March 8, 2012.
Tracey L. Thompson,
Acting Director, Office of Sustainable Fisheries, National Marine Fisheries Service.

[FR Doc. 2012-5981 Filed 3-12-12; 8:45 am]

BILLING CODE 3510-22-P